Proclamation 8900 of November 1, 2012

National Family Caregivers Month, 2012

By the President of the United States of America

A Proclamation

Our Nation's health care professionals provide essential medical services to millions of Americans, yet they do not shoulder their responsibilities alone. Family members, friends, and neighbors devote countless hours to providing care to their relatives or loved ones. During National Family Caregivers Month, we recognize and thank the humble heroes who do so much to keep our families and communities strong.

Across America, daughters and sons balance the work of caring for aging parents with the demands of their careers and raising their own children. Spouses and partners become caregivers to the ones they love even as they navigate their own health challenges. Mothers and fathers resume care for children returning home as wounded warriors. Friends and relatives form networks to support loved ones with disabilities. All of them give selflessly to bring comfort, social engagement, and stability to those they love.

Family caregivers have an immeasurable impact on the lives of those they assist, but their hours are long and their work is hard. Many put their own lives on hold to lift up someone close to them. That is why my Administration continues to support these committed individuals through programs like the National Family Caregiver Support Program and the Lifespan Respite Care Program, and through new initiatives like the National Plan to Address Alzheimer's Disease. These efforts help caregivers access services, provide quality support, and reinforce their support through respite care options. Additionally, my Administration has pursued workplace flexibility initiatives that help caregivers balance their responsibilities to their employers with their responsibilities to their loved ones. I was also proud to sign the Caregivers and Veterans Omnibus Health Services Act, which has helped our most seriously injured post-9/11 veterans and their family caregivers through financial support; access to health insurance, mental health services, and counseling; and comprehensive caregiver training and respite care.

National Family Caregivers Month is a time to reflect on the compassion and dedication that family caregivers embody every day. As we offer our appreciation and admiration for their difficult work, let us also extend our own offers of support to them and their loved ones.

NOW, THEREFORE, I, BARACK OBAMA, President of the United States of America, by virtue of the authority vested in me by the Constitution and the laws of the United States, do hereby proclaim November 2012 as National Family Caregivers Month. I encourage all Americans to pay tribute to those who provide for the health and well-being of their family members, friends, and neighbors.

IN WITNESS WHEREOF, I have hereunto set my hand this first day of November, in the year of our Lord two thousand twelve, and of the Independence of the United States of America the two hundred and thirty-seventh.

[FR Doc. 2012-27205

Filed 11-5-12; 8:45 am]

Billing code 3295-F3